DEPARTMENT OF DEFENSE

Defense Acquisition Regulations System

48 CFR Part 227

Patents, Data, and Copyrights; CFR Correction

In Title 48 of the Code of Federal Regulations, Chapter 2 (Parts 201—299), revised as of October 1, 2011, on page 206, in section 227.7102-1, paragraph (c) is added to read as follows:

227.7102-1 Policy.

* * * * *

(c) The Government's rights in a vessel design, and in any useful article embodying a vessel design, must be consistent with the Government's rights in technical data pertaining to the design (10 U.S.C. 7317; 17 U.S.C. 1301(a)(3)).

[FR Doc. 2012-23925 Filed 9-26-12; 8:45 am]

BILLING CODE 1505-01-D